DEPARTMENT OF VETERANS AFFAIRS

Performance Review Board Members: Correction

AGENCY: Corporate Senior Executive Management Office, Department of Veterans Affairs.

ACTION: Notice; correction.

SUMMARY: The Department of Veterans Affairs (VA) published a notice, “Performance Review Board Members,” in the Federal Register on December 12, 2014, that contained an error. Specifically, it incorrectly stated that Pat Vandenberg would serve on the VA Performance Review Board. This notice corrects that error and announces the appointment of Elias Hernandez to the Board.

DATES: Effective date: December 12, 2014.

ADDRESSES: Corporate Senior Executive Management Office, Department of Veterans Affairs, 810 Vermont Avenue NW., Washington, DC 20420.

FOR FURTHER INFORMATION CONTACT: Contact Tia N. Butler, Executive Director, Corporate Senior Executive Management Office (052), Department of Veterans Affairs, 810 Vermont Avenue NW., Washington, DC 20420, (202) 461-7865. (This is not a toll free number.)

Correction

In the Federal Register of December 12, 2014, in FR Doc.14x-29262, on page 73952, correct the SUPPLEMENTARY INFORMATION by adding the name “Elias Hernandez” and removing the name “Patricia C. Vandenberg”.

Signing Authority

The Secretary of Veterans Affairs, or designee, approved this document and authorized the undersigned to sign and submit the document to the Office of the Federal Register for publication electronically as an official document of the Department of Veterans Affairs. Jose D. Riojas, Chief of Staff, Department of Veterans Affairs, approved this document on December 12, 2014, for publication.

Dated: December 12, 2014.
William F. Russo,
Acting Director, Office of Regulation Policy & Management, Office of the General Counsel, Department of Veterans Affairs.

[FR Doc. 2014-29545 Filed 12-15-14; 8:45 am]

BILLING CODE 8320-01-P